NATIONAL SCIENCE FOUNDATION

Advisory Committee for Mathematical and Physical Science; Notice of Meeting

In accordance with Federal Advisory Committee Act (Pub. L. 92-463, as amended), the National Science Foundation announces the following meeting:

Name: Advisory Committee for Mathematical and Physical Science (#66).

Dates/Times: October 31, 2001—12 Noon-6 PM; November 1, 2001—8 AM-6 PM; and November 2, 2001—8 AM-4:30 PM.

Place: NSF, Room 1235, 4201 Wilson Boulevard, Arlington, VA.

Type of Meeting: Open.

Contact Person: Dr. Morris L. Aizenman, Senior Science Associate, Directorate for Mathematical and Physical Sciences, Room 1005, National Science Foundation, 4201 Wilson Boulevard, Arlington, VA 22230, (703) 292-8807.

Purpose of Meeting: To provide advice and recommendations concerning NSF science and education activities within the Directorate for Mathematical and Physical Sciences.

Agenda: Briefing on status of MPS Divisions to new members; Briefing on current status of Directorate; Assessment by MPSAC of Directorate Performance for FY 2001; Review by MPSAC of Division of Astronomical Sciences; Review by MPSAC of Division of Materials Research; and Report by MPSAC Education Liaison Group.

Summary Minutes: May be obtained from the contact person listed above.

Dated: October 9, 2001.
Susanne Bolton,
Committee Management Officer.

[FR Doc. 01-25768 Filed 10-12-01; 8:45 am]

BILLING CODE 7555-01-M